ENVIRONMENTAL PROTECTION AGENCY

40 CFR Part 52

[EPA-R04-OAR-2006-0130-200714(w); FRL-8332-6]

Approval and Promulgation of Implementation Plans: State of Florida; Prevention of Significant Deterioration Requirements for Power Plants Subject to the Florida Power Plant Siting Act; Withdrawal of Direct Final Rule

AGENCY: Environmental Protection Agency (EPA).

ACTION: Withdrawal of direct final rule.

SUMMARY: Due to an adverse comment, EPA is withdrawing the direct final rule published May 25, 2007 (72 FR 29273), approving a revision to the State Implementation Plan of the State of Florida. This revision grants full approval to implement the State's Clean Air Act Prevention of Significant Deterioration program for electric power plants subject to the Florida Electrical Power Plant Siting Act. EPA stated in the direct final rule that if EPA received an adverse comment by June 25, 2007, the rule would be withdrawn and not take effect. EPA subsequently received an adverse comment. EPA will address the comment in a subsequent action.

DATES: The direct final rule is withdrawn as of June 28, 2007.

FOR FURTHER INFORMATION CONTACT: Ms. Kelly Fortin, Air Permits Section, Air Planning Branch, Air, Pesticides and Toxics Management Division, U.S. Environmental Protection Agency, Region 4, 61 Forsyth Street, SW., Atlanta, Georgia 30303-8960. The telephone number is (404) 562-9117. Ms. Fortin can also be reached via electronic mail at fortin.kelly@epa.gov.

List of Subjects in 40 CFR Part 52

Environmental protection, Air pollution control, Carbon monoxide, Intergovernmental relations, Lead, Nitrogen dioxide, Ozone, Particulate matter, Reporting and recordkeeping requirements, Sulfur oxides, Volatile organic compounds.

Dated: June 19, 2007.
Russell L. Wright, Jr.,
Acting Regional Administrator, Region 4.

Accordingly, the amendments to 40 CFR 52.530 (which published in the Federal Register on May 25, 2007, at 72 FR 29273) is withdrawn as of June 28, 2007.

[FR Doc. E7-12585 Filed 6-27-07; 8:45 am]

BILLING CODE 6560-50-P